DEPARTMENT OF COMMERCE

International Trade Administration

[A-570-803]

Heavy Forged Hand Tools From the People's Republic of China; Amended Final Results of Antidumping Duty Administrative Reviews

AGENCY: Import Administration, International Trade Administration, Department of Commerce.

ACTION: Notice of Amended Final Results of Administrative Reviews.

SUMMARY: The Department of Commerce (“the Department”) is amending its final results of the February 1, 1998 through January 31, 1999 administrative reviews of the antidumping duty orders on heavy forged hand tools (“HFHTs”) from the People's Republic of China (“PRC”). This amendment of the final results, which were published on July 13, 2000 (65 FR 43290), is being made to reflect the correction of a ministerial error.

EFFECTIVE DATE: August 18, 2000.

FOR FURTHER INFORMATION CONTACT: Lyman Armstrong or James Terpstra, AD/CVD Enforcement Group II, Office IV, Import Administration, International Trade Administration, U.S. Department of Commerce, 14th Street and Constitution Avenue, N.W., Washington, D.C. 20230; telephone (202) 482-3601 or (202) 482-3965 respectively.

SUPPLEMENTARY INFORMATION:

Applicable Statute

Unless otherwise indicated, all citations to the statute are in reference to the provisions effective January 1, 1995, the effective date of the amendments made to the Tariff Act of 1930 (the Act) by the Uruguay Round Agreements Act (URAA). In addition, unless otherwise indicated, all citations are to the Department's regulations, 19 CFR part 353 (1998).

Background

On July 13, 2000, the Department published its final results of administrative reviews of the antidumping duty orders on HFHTs from the PRC (65 FR 43290). The Department has now amended the final results of these reviews in accordance with section 751 of the Act.

On July 17, 2000, we received a timely submission from three respondents, Liaoning Machinery Import & Export Corporation, Shandong Huarong General Group Corporation, and Tianjin Machinery Import & Export Corporation (collectively “respondents”), alleging that the Department made a ministerial error by failing to consider certain factual information on the record pertaining to the surrogate value for steel billets used to produce subject merchandise. Petitioner filed rebuttal comments on July 21, 2000. On July 25, 2000 respondents filed comments on petitioner's rebuttal.

After analyzing the submissions, we have determined, in accordance with 19 CFR 351.224, that a ministerial error was made in calculating the margins for respondents. Specifically, in determining the surrogate values for direct materials and packing materials, the Department inadvertently failed to consider certain Indian Import Statistics identified in respondents' March 28, 2000 submission. See Letter from Hume & Associates Regarding Surrogate Values (March 28, 2000). Although respondents alleged that the Department made a ministerial error solely with respect to billets, we have determined that our failure to consider all the factual information on the record in selecting surrogate values was not limited solely to billets. Rather, we found that the March 28, 2000 submission contained more complete information upon which to base the surrogate value not only for billets, but also for steel bar, packing materials and other direct materials. Examination of this information also led us to reject some of it as aberrant or not reflective of the type of material actually used to produce subject merchandise. Consequently, we are amending our final results by basing the surrogate values for steel billet, steel bar and all other direct materials and packing materials, other than pallets, on Indian Import statistics for the entire period of review (i.e., Indian Import Statistics for February 1998 through August 1998, which were used in the final results, as well as statistics for September 1998 through January 1999, which were included in respondents' March 28, 2000 submission). For a detailed discussion of the ministerial error allegation and the Department's analysis, see Memorandum to Troy H. Cribb from Holly A. Kuga, dated August 1, 2000.

Therefore, in accordance with 19 CFR 351.224(e), we are amending the final results of the antidumping duty reviews of HFHTs from the PRC. The revised weighted-average dumping margins are listed in the “Amended Final Results of the Reviews” section below.

Scope of Reviews

Imports covered by these reviews are shipments of HFHTs from the PRC comprising the following classes or kinds of merchandise: (1) Hammers and sledges with heads over 1.5 kg (3.33 pounds) (hammers/sledges); (2) bars over 18 inches in length, track tools and wedges (bars/wedges); (3) picks/mattocks; and (4) axes/adzes.

HFHTs include heads for drilling, hammers, sledges, axes, mauls, picks, and mattocks, which may or may not be painted, which may or may not be finished, or which may or may not be imported with handles; assorted bar products and track tools including wrecking bars, digging bars and tampers; and steel wood splitting wedges. HFHTs are manufactured through a hot forge operation in which steel is sheared to required length, heated to forging temperature, and formed to final shape on forging equipment using dies specific to the desired product shape and size. Depending on the product, finishing operations may include shot-blasting, grinding, polishing and painting, and the insertion of handles for handled products. HFHTs are currently classifiable under the following Harmonized Tariff Schedule (HTS) subheadings: 8205.20.60, 8205.59.30, 8201.30.00, and 8201.40.60. Specifically excluded are hammers and sledges with heads 1.5 kg (3.33 pounds) in weight and under, hoes and rakes, and bars 18 inches in length and under. Although the HTS subheadings are provided for convenience and Customs purposes, our written description of the scope of these orders is dispositive.

Amended Final Results of the Reviews

Based on our review of the comments discussed above, for these amended final results we have made changes in our final margin calculations and determine that the following revised weighted-average margins exist for the period February 1, 1998, through January 31, 1999:

Manufacturer/exporter | Margin (percent)
Shandong Huarong General Group Corporation:
Axes/Adzes | 70.15
Bars/Wedges | 28.96
Liaoning Machinery Import & Export Corporation: Bars/Wedges | 29.10
Tianjin Machinery Import & Export Corporation:
Axes/Adzes | 70.15
Bars/Wedges | 139.31
Hammers/Sledges | 1.17
Picks/Mattocks | 4.58
Shandong Machinery Import & Export Corporation:
Axes/Adzes | 70.15
Bars/Wedges | 139.31
Hammers/Sledges | 27.71
Picks/Mattocks | 98.77
PRC-wide rates:
Axes/Adzes | 70.15
Bars/Wedges | 139.31
Hammers/Sledges | 27.71
Picks/Mattocks | 98.77

The Department shall determine, and Customs shall assess, antidumping duties on all appropriate entries. In accordance with 19 CFR 351.212(b), we have calculated an importer-specific duty assessment rate. With respect to both export price and constructed export price sales, we divided total dumping margins for the reviewed sales by the total entered value of those reviewed sales for each importer. We will direct Customs to assess the resulting percentage margins against the entered Customs values for the subject merchandise on each of the importer's entries under the order during the review period.

Cash Deposit Requirements

The following deposit requirements will be effective upon publication of this notice of the amended final results of the administrative reviews for all shipments of HFHTs from the PRC entered, or withdrawn from warehouse, for consumption on or after the date of publication, as provided by section 751(a)(1) of the Act: (1) The cash deposit rates for the reviewed companies will be the rates shown above; (2) for companies previously found to be entitled to a company-specific rate and for which no review was requested, the cash deposit rates will continue to be the company-specific rates published for the most recent period reviewed; (3) for all other PRC exporters of subject merchandise, the cash deposit rates will be the PRC country-wide rate indicated above; and (4) the cash deposit rate for non-PRC exporters of subject merchandise from the PRC will be the rates applicable to the PRC supplier of that exporter. These deposit requirements shall remain in effect until publication of the final results of the next administrative reviews.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as the only reminder to parties subject to administrative protective orders (“APOs”) of their responsibility concerning the return or destruction of proprietary information disclosed under an APO in accordance with 19 CFR 351.305 or conversion to judicial protective order is hereby requested. Failure to comply with the regulations and terms of an APO is a violation which is subject to sanction.

We are issuing and publishing these determinations and this notice in accordance with sections 751(a)(1) and 771(i) of the Act.

Dated: August 4, 2000.
Troy H. Cribb,
Acting Assistant Secretary for Import Administration.

[FR Doc. 00-21106 Filed 8-17-00; 8:45 am]

BILLING CODE 3510-DS-P